DEPARTMENT OF TRANSPORTATION

Federal Highway Administration

Buy America Waiver Notification

AGENCY: Federal Highway Administration (FHWA), DOT.

ACTION: Notice.

SUMMARY: This notice provides information regarding the FHWA's finding that a Buy America waiver is appropriate for certain steel products used in Federal-aid construction projects in Oregon and Washington.

DATES: The effective date of the waiver is January 15, 2009.

FOR FURTHER INFORMATION CONTACT: For questions about this notice, please contact Mr. Gerald Yakowenko, FHWA Office of Program Administration, (202) 366-1562, gerald.yakowenko@dot.gov. For legal questions, please contact Mr. Michael Harkins, FHWA Office of the Chief Counsel, (202) 366-4928, michael.harkins@dot.gov. Office hours for the FHWA are from 7:45 a.m. to 4:15 p.m., e.t., Monday through Friday, except Federal holidays.

SUPPLEMENTARY INFORMATION:

Electronic Access

An electronic copy of this document may be downloaded from the Federal Register's home page at: http://www.archives.gov and the Government Printing Office's database at: http://www.access.gpo.gov/ nara.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding the FHWA's finding that a Buy America waiver is appropriate for two specific cases.

In accordance with section 130 of Division K of the “Consolidated Appropriations Act, 2008” (Pub. L. 110-161), the FHWA published on its Web site two notices of intent to issue Buy America waivers: (1) A waiver for 1” diameter hollow-core threaded anchor rod in Oregon http://www.fhwa.dot.gov/construction/contracts/waivers.cfm?id=23 on November 6, 2008, and (2) a waiver for CIPEC WP 250 Steel expansion joint system in Washington http://www.fhwa.dot.gov/construction/contracts/waivers.cfm?id=22 on October 23, 2008. The FHWA received no comments in response to the 1″ diameter hollow-core threaded anchor rod which suggested that the 1″ diameter hollow-core threaded anchor rod may not be available domestically. Further investigation and inquiry revealed that the product is not available domestically. The FHWA received six comments in response to the CIPEC WP 250 Steel expansion joint system. The comments suggested that there are other alternative domestic joint systems available: Finger joint, Elastomeric strip seal joints, Modular expansion joints, and WaboFlex bolt-down panel joint. Washington State has used the WaboFlex in a number of projects, but discontinued using it over 10 years ago as a result of failure modes and poor performance that posed safety hazards to the travelling public. The Finger joint, Elastomeric, and modular expansion joints were disallowed due to subsequent failures and not meeting the specification of 9 inch tolerable movement range that would satisfy the American Association of State Highway and Transportation Officials loading requirements for high capacity high volume roadway system. During the 15-day comment period, the FHWA conducted additional nationwide review to locate potential domestic manufacturers for the products. Based on all the information available to the Agency, including the responses received to the notices as well as the Agency's nationwide review, the FHWA concludes that there are no domestic manufacturers for the 1″ diameter hollow-core threaded anchor rod and the CIPEC WP250 steel expansion joint system.

In accordance with the provisions of section 117 of the “SAFETEA—LU Technical Corrections Act of 2008” (Pub. L. 110-244, 122 Stat. 1572), the FHWA is providing this notice as its finding that a waiver of Buy America requirements is appropriate pursuant to 23 CFR 635.410(c)(1). The FHWA invites public comment on this finding for an additional 15 days following the effective date of the finding. Comments may be submitted to the FHWA's Web site via the links above to the Oregon and Washington waiver pages noted above.

(Authority: 23 U.S.C. 313; Pub. L. 110-161, 23 CFR 635.410.)

Issued on: January 7, 2009.
Thomas J. Madison, Jr.,
Federal Highway Administrator.

[FR Doc. E9-557 Filed 1-13-09; 8:45 am]

BILLING CODE 4910-22-P